DEPARTMENT OF THE INTERIOR

Bureau of Land Management

[19X 1109AF LLUT930000 Ll6100000.DQ0000.LXSSJ0640000]

Notice of Availability of the Grand Staircase-Escalante National Monument-Grand Staircase, Kaiparowits, and Escalante Canyon Units and Federal Lands Previously Included in the Monument That are Excluded From the Boundaries Proposed Resource Management Plans and Final Environmental Impact Statement

AGENCY: Bureau of Land Management, Interior.

ACTION: Notice of availability.

SUMMARY: In accordance with the National Environmental Policy Act of 1969, as amended, and the Federal Land Policy and Management Act of 1976, as amended, the Bureau of Land Management (BLM) Grand Staircase-Escalante National Monument (GSENM) and Kanab Field Office (KFO) have prepared the Proposed Resource Management Plans (RMPs) and Final Environmental Impact Statement (EIS) for the GSENM Grand Staircase, Kaiparowits, and Escalante Canyons Units, and Federal lands excluded from the Monument by Proclamation 9682 (Kanab-Escalante Planning Area (KEPA), and by this notice is announcing its availability and the opening of a protest period concerning the Proposed RMPs. In accordance with the John D. Dingell, Jr. Conservation, Management, and Recreation Act of 2019, this notice also announces the opening of a 60-day public comment period regarding the proposed closure of recreational target shooting within at least 0.25 miles of residences, campgrounds, and developed recreation facilities in GSENM and KEPA.

DATES: The BLM planning regulations state that any person who meets the conditions as described in the regulations may protest the BLM's Proposed RMPs and Final EIS. A person who meets the conditions and files a protest must file the protest within 30 days of the date that the Environmental Protection Agency publishes its Notice of Availability in the Federal Register.

To ensure that comments on the proposed target shooting closure will be considered, the BLM must receive written comments by October 22, 2019.

ADDRESSES: The Proposed RMPs and Final EIS is available on the BLM ePlanning project website at https://go.usa.gov/xVCGJ. Click the “Documents & Reports” link on the left side of the screen to find the electronic versions of these materials. Hard copies of the Proposed RMPs and Final EIS are available for public inspection at the Kanab Field Office.

Instructions for filing a protest with the Director of the BLM regarding the Proposed RMPs may be found online at https://www.blm.gov/filing-a-plan-protest and at 43 CFR 1610.5-2.

You may submit comments on the proposed target shooting closure using either of the following methods:

Email: BLM_UT_CCD_monuments@blm.gov.

Mail: BLM, Kanab Field Office, 669 South Highway 89A, Kanab, UT 84741, Attn: Harry Barber.

FOR FURTHER INFORMATION CONTACT: Harry Barber, Monument Manager, telephone (435) 644-1200; address 669 S Hwy. 89A, Kanab, UT 84741; email BLM_UT_CCD_monuments@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: On December 4, 2017, President Donald Trump signed Presidential Proclamation 9682 modifying the boundaries of the GSENM to exclude from designation and reservation approximately 861,974 acres of land. Lands that remain part of the GSENM are included in three units, known as the Grand Staircase, Kaiparowits, and Escalante Canyons Units and are reserved for the care and management of the objects of historic and scientific interest described in Proclamation 6920, as modified by Proclamation 9682. Lands that are excluded from the Monument boundaries are now referred to as the Kanab-Escalante Planning Area (KEPA) and are managed in accordance with the BLM's multiple-use mandate.

The planning area is located in Kane and Garfield Counties, Utah, and encompasses approximately 1.87 million acres of public land. For the GSENM Grand Staircase, Kaiparowits, and Escalante Canyons Units, this planning effort is needed to identify goals, objectives, and management actions necessary for the proper care and management of the objects and values identified in Proclamations 6920, as modified by Proclamation 9682. For lands in the KEPA, this planning effort is needed to identify goals, objectives, and management actions necessary to ensure that public lands and their various resource values are utilized in the combination that will best meet the present and future needs of the American people.

The entire planning area is currently managed by the BLM and under the Grand Staircase-Escalante National Monument Management Plan (BLM 1999), as amended. This planning effort would replace the existing Monument Management Plan with four new RMPs.

The BLM reviewed public-scoping comments to identify planning issues that directed the formulation of alternatives and framed the scope of analysis in the Draft RMPs/EIS. Issues identified include management of recreation and access; paleontological and cultural resources; livestock grazing; mineral resources; and wildlife, water, vegetation, and soil resources. This planning effort also considers management of lands with wilderness characteristics and designation of Areas of Critical Environmental Concern.

The formal public scoping process for the RMPs and EIS began on January 16, 2018, with publication of a Notice of Intent in the Federal Register (83 FR 2179) and ended on April 11, 2018. The BLM held public scoping meetings in Kanab and Escalante, Utah, in March 2018. The Notice of Availability for the Draft RMPs/EIS was published on August 17, 2018 (83 FR 41108), followed by a Notice of Error, on August 31, 2019 (83 FR 44659), that extended the public comment period on the Draft RMPs/EIS. The BLM accepted public comments on the range of alternatives, effects analysis and Draft RMPs for 105 days, ending on November 30, 2018. During the public comment period, public meetings were held in Kanab and Escalante, Utah.

The Draft RMPs/EIS evaluated four alternatives in detail. Alternative A is the No Action alternative, which is a continuation of existing decisions in the Monument Management Plan. Alternative B generally focuses on protection of resources (e.g., wildlife, vegetation, cultural, etc.) while providing for targeted resource use (e.g., rights-of-way, travel, mineral development). Alternative C generally represents a balance of resource protection and resource use. Alternative D generally focuses on maximizing resource use (e.g., rights-of-way, minerals development, livestock grazing) while still providing for resource protection as required by applicable regulations, laws, policies, plans, and guidance, including protection of Monument objects within the GSENM Units. Comments on the Draft RMPs/EIS received from the public, the Utah Resource Advisory Council, cooperating agencies and tribes, and internal BLM review were considered and incorporated as appropriate into the Proposed RMPs/Final EIS. Public comments resulted in the addition of clarifying text, but did not significantly change the range of alternatives considered. Alternative E was developed in response to comments received on the Draft RMPs/EIS and includes elements of Alternatives A, B, C, and D. The BLM has identified Alternative E as the agency's Proposed RMPs. Identification of this alternative, however, does not represent final agency direction.

In the Proposed RMPs, the BLM proposes that recreational target shooting shall not be allowed on certain lands managed by the BLM in both GSENM and KEPA. As proposed, target shooting would generally be allowed, but would be prohibited within at least 0.25 miles of residences, campgrounds, and developed recreation facilities. The proposed closure would provide for public safety near residences, campgrounds and developed recreation facilities. The proposed closure would also enhance the safety of the public visiting campgrounds and developed recreation facilities in GSENM and KEPA, which would improve their experience.

In accordance with the John D. Dingell, Jr. Conservation, Management, and Recreation Act of 2019, the BLM is announcing the opening of a 60-day public comment period on the proposed target shooting closure. As such, the BLM is only accepting comments on the proposed target shooting closure. All comments must be received by the date set forth in the DATES section above and must be submitted using one of the methods listed in the ADDRESSES section above.

All protests must be in writing and submitted, as set forth in the DATES and ADDRESSES sections above.

Authority: 40 CFR 1506.6 40 CFR 1506.10 43 CFR 1610.2 and 36 CFR 219.59.

Edwin L. Roberson,
State Director.

[FR Doc. 2019-18243 Filed 8-22-19; 8:45 am]

BILLING CODE 4310-DQ-P